Proclamation 9501 of September 23, 2016

National Public Lands Day, 2016

By the President of the United States of America

A Proclamation

Nothing can truly capture the beauty and majesty of America's expansive landscapes and wide-open acres. On National Public Lands Day, Americans from coast-to-coast celebrate these spaces by participating in the largest single-day volunteer effort to restore and enhance the lands we all enjoy. Volunteers will remove litter and invasive plant species, blaze new trails and maintain existing ones, and plant seeds that will grow in the years to come—taking full advantage of the chance to give back to the lands that have given us all so much.

Our public lands reflect our shared history, and enable us to connect to each other and to something bigger than ourselves. National Parks, forests, wildlife refuges, conservation lands, and marine sanctuaries not only strengthen our economy through tourism and provide endless recreational and educational opportunities, but are also home to important biodiversity and rich ecosystems. I am proud that my Administration has protected hundreds of millions of acres of these vital lands and waters—more than any Administration in history. Through the America's Great Outdoors Initiative, we have also promoted innovative, community-level efforts to conserve outdoor spaces and reconnect Americans with nature. And through the 21st Century Conservation Corps, we have worked to inspire millions of young adults and veterans to engage in hands-on service in the great outdoors.

On National Public Lands Day, all federally managed public lands and waters are offering free admission so Americans can observe this day not just by caring for these spaces, but by enjoying their vast wonders. To ensure more young people can discover our great outdoors, my “Every Kid in a Park” initiative is again giving fourth grade students and their families free access to all National Parks and other Federal lands for an entire year. And as the National Park Service celebrates 100 years of preserving and protecting these important spaces, we are encouraging more Americans to “Find Your Park” and explore the extraordinary parks and public lands in their communities.

As stewards of our environment and caretakers of these public lands, we must build on our legacy of conservation. Climate change poses the single biggest threat to our natural resources. Across our country, we are experiencing stronger storms, harsher droughts, increased flooding, and longer wildfire seasons that put these public spaces at risk—which is why any effort to fully combat climate change must include protecting our land, water, and wildlife. Let us rededicate ourselves to this critical work and continue looking after these natural treasures and protecting our historic and cultural heritage for generations to come.

NOW, THEREFORE, I, BARACK OBAMA, President of the United States of America, by virtue of the authority vested in me by the Constitution and the laws of the United States, do hereby proclaim September 24, 2016, as National Public Lands Day. I encourage all Americans to participate in a day of public service for our lands.

IN WITNESS WHEREOF, I have hereunto set my hand this twenty-third day of September, in the year of our Lord two thousand sixteen, and of the Independence of the United States of America the two hundred and forty-first.

[FR Doc. 2016-23632

Filed 9-27-16; 11:15 am]

Billing code 3295-F6-P